ENVIRONMENTAL PROTECTION AGENCY

[EPA-HQ-OPP-2014-0502; FRL-9912-84]

Ace Info Solutions, Inc. and Adventure Solutions, Prospect Infosystems, Camber Government Solutions, Inc, EMT Technologies, LLC, Peridot Solutions and KForce; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Ace Info Solutions, Inc. and its subcontractor, Adventure Solutions, Prospect Infosystems, Camber Government Solutions, Inc, EMT Technologies, LLC, Peridot Solutions and KForce, in accordance with 40 CFR 2.307(h)(3) and 2.308(i)(2). Ace Info Solutions, Inc. and its subcontractor, Adventure Solutions, Prospect Infosystems, Camber Government Solutions, Inc, EMT Technologies, LLC, Peridot Solutions and KForce, have been awarded a contract to perform work for OPP, and access to this information will enable Ace Info Solutions, Inc. and its subcontractor, Adventure Solutions, Prospect Infosystems, Camber Government Solutions, Inc, EMT Technologies, LLC, Peridot Solutions and KForce, to fulfill the obligations of the contract.

DATES: Ace Info Solutions, Inc. and its subcontractor, Adventure Solutions, Prospect Infosystems, Camber Government Solutions, Inc, EMT Technologies, LLC, Peridot Solutions and KForce, will be given access to this information on or before July 23, 2014.

FOR FURTHER INFORMATION CONTACT: Mario Steadman, Information Technology and Resources Management Division (7502P), Office of Pesticide Programs, Environmental Protection Agency, 1200 Pennsylvania Ave. NW., Washington, DC 20460-0001; telephone number: (703) 305-8338; email: steadman.mario@epa.gov.

SUPPLEMENTARY INFORMATION:

I. General Information

A. Does this action apply to me?

This action applies to the public in general. As such, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2014-0502. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Contractor Requirements

Under Contract No. GS-06F-0667Z, Ace Info Solutions, Inc. and its subcontractor, Adventure Solutions, Prospect Infosystems, Camber Government Solutions, Inc, EMT Technologies, LLC, Peridot Solutions and KForce, will perform Information Systems Infrastructure Operations, Software Maintenance and Development, and Website Management Services. The contractor shall provide such support for all project-related issues associated with all OPP information systems residing on Windows servers, Linux servers, VMware servers, the OPP SAN, the Oracle Real Application Cluster, and all other platforms as required that are currently written for Oracle, Java/J2EE, Documentum, Business Objects, Cold Fusion, Dreamweaver, Adobe, Macromedia, and other application development platforms, as necessary. Support is needed to ensure that OPPIN/PRISM information systems remain readily available to OPP personnel via the LAN and OPP external customers via the Intranet/Internet and other mechanisms (Citrix, remote access via RSA tokens, File Transfer Protocol (FTP) sites).

OPP has determined that access by Ace Info Solutions, Inc. and its subcontractor, Adventure Solutions, Prospect Infosystems, Camber Government Solutions, Inc, EMT Technologies, LLC, Peridot Solutions and KForce, to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Ace Info Solutions, Inc. and its subcontractor, Adventure Solutions, Prospect Infosystems, Camber Government Solutions, Inc, EMT Technologies, LLC, Peridot Solutions and KForce, prohibits use of the information for any purpose not specified in the contract; prohibits disclosure of the information to a third party without prior written approval from the Agency; and requires that each official and employee of the contractor sign an agreement to protect the information from unauthorized release and to handle it in accordance with the FIFRA Information Security Manual. In addition, Ace Info Solutions, Inc. and its subcontractor, Adventure Solutions, Prospect Infosystems, Camber Government Solutions, Inc, EMT Technologies, LLC, Peridot Solutions and KForce, are required to submit for EPA approval a security plan under which any CBI will be secured and protected against unauthorized release or compromise. No information will be provided to Ace Info Solutions, Inc. and its subcontractor, Adventure Solutions, Prospect Infosystems, Camber Government Solutions, Inc, EMT Technologies, LLC, Peridot Solutions and KForce, until the requirements in this document have been fully satisfied. Records of information provided to Ace Info Solutions, Inc. and its subcontractor, Adventure Solutions, Prospect Infosystems, Camber Government Solutions, Inc, EMT Technologies, LLC, Peridot Solutions and KForce, will be maintained by EPA Project Officers for this contract. All information supplied to Ace Info Solutions, Inc. and its subcontractor, Adventure Solutions, Prospect Infosystems, Camber Government Solutions, Inc, EMT Technologies, LLC, Peridot Solutions and KForce, by EPA for use in connection with this contract will be returned to EPA when Ace Info Solutions, Inc. and its subcontractor, Adventure Solutions, Prospect Infosystems, Camber Government Solutions, Inc, EMT Technologies, LLC, Peridot Solutions and KForce, have completed their work.

List of Subjects

Environmental protection, Business and industry, Government contracts, Government property, Security measures.

Dated: July 1, 2014.
Michael Hardy,
Acting Director, Information Technology and Resources Management Division, Office of Pesticide Programs.

[FR Doc. 2014-16915 Filed 7-17-14; 8:45 am]

BILLING CODE 6560-50-P